DEPARTMENT OF TRANSPORTATION

Federal Aviation Administration

14 CFR Part 71

[Docket No. FAA-2005-20572; Airspace Docket No. 05-ACE-9]

Proposed Establishment of Class E2 Airspace; and Modification of Class E5 Airspace; Valentine, NE

Correction

In proposed rule document 05-5763 beginning on page 14601 in the issue of Wednesday, March 23, 2005, make the following correction:

§ 71.1 [Corrected]

On page 14603, in the first column under the heading ACE NE E5 Valentine, NE, the surface area description should read as follows:

ÿ7E

Valentine, Miller Field, NE

(Lat. 42°51'28” N., long. 100°32'51” W.)

Valentine NDB

(Lat. 42°51'42” N., long. 100°32'59” W.)

[FR Doc. C5-5763 Filed 3-25-05; 8:45 am]

BILLING CODE 1505-01-D